DEPARTMENT OF DEFENSE

Department of the Army

U.S. Army Corps of Engineers

DEPARTMENT OF THE INTERIOR

Bureau of Reclamation

Scoping Period Extension for the Notice of Intent To Prepare a Supplemental Environmental Impact Statement (SEIS) for the Columbia River System Operations

AGENCY: Department of the Army, U.S. Army Corps of Engineers, DoD; Bureau of Reclamation, U.S. Department of the Interior.

ACTION: Notice of intent; extension of comment period.

SUMMARY: The U.S. Army Corps of Engineers and Bureau of Reclamation (Co-Lead Agencies) are extending the scoping period and re-scheduling public meetings for the notice of intent entitled “Notice of Intent to Prepare a Supplemental Environmental Impact Statement (SEIS) for the Columbia River System Operations,” published in the Federal Register on December 18, 2024. The scoping period is now scheduled to end May 9, 2025 and public meetings will now be held the week of April 7, 2025.

DATES: The Co-Lead Agencies invite federal and state agencies, Native American Tribes, local governments, and the public to submit scoping comments relevant to the supplemental National Environmental Policy Act (NEPA) process no later than May 9, 2025. Information will also be provided at public meetings. Information on the public meetings is provided under the SUPPLEMENTARY INFORMATION section of this Notice.

ADDRESSES: Written comments, requests to be placed on the project mailing list, and requests for information may be mailed by letter to U.S. Army Corps of Engineers Northwestern Division Attn: CRSO SEIS, P.O. Box 2870, Portland, OR 97208-2870; or by email to columbiariver@usace.army.mil. All comment letters will be available via the project website at https://www.nwd.usace.army.mil/columbiariver/. All comments and materials received, including names and addresses, will become part of the administrative record, and may be released to the public. Interested parties should not submit confidential business or otherwise sensitive or protected information.

FOR FURTHER INFORMATION CONTACT: Tim Fleeger, Columbia River Basin Policy and Environmental Coordinator, Northwestern Division, U.S. Army Corps of Engineers 1 (800) 290-5033 or email columbiariver@usace.army.mil. Additional information can be found at the project website: https://www.nwd.usace.army.mil/columbiariver/.

SUPPLEMENTARY INFORMATION: The scoping period for the notice of intent published in the Federal Register on December 18, 2024 (89 FR 102869) was originally scheduled to end on March 20, 2025 but is now being extended to May 9, 2025. The Co-Lead Agencies invite all affected Federal, State, and local agencies, affected Tribes, other interested parties, and the general public to participate in the NEPA process during development of the SEIS. Three (3) virtual public scoping meetings will be held the week of April 7, 2025. The specific dates, times, and meeting information will be published on the project website: https://www.nwd.usace.army.mil/columbiariver/. Additional public meetings will be scheduled after release of the draft SEIS.

William C Hannan,
Brigadier General, U.S. Army, Division Commander,
Jennifer Carrington,
Regional Director, Columbia-Pacific Northwest Region, Bureau of Reclamation.

[FR Doc. 2025-02419 Filed 2-7-25; 8:45 am]

BILLING CODE 3720-58-P